DEPARTMENT OF ENERGY

Federal Energy Regulatory Commission

[Docket No. RP04-119-005]

Dominion Transmission, Inc.; Notice of Annual Report on Operational Sales of Gas

April 25, 2006.

Take notice that on April 6, 2006, Dominion filed an Annual Report on Operational Sales of Gas for the period April 1, 2005 through March 31, 2006 in compliance with section 42.D of the General Terms and Conditions (GT&C) of its tariff, which requires Dominion on June 30 of each year to submit its annual report on the sale of gas that is incidental to its operations covering the 12 month period from April 1 to March 31. Dominion reports that it made no operational sales of gas during this period.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Protest Date: 5 p.m. eastern time on May 1, 2006.

Magalie R. Salas,
Secretary.

[FR Doc. E6-6562 Filed 5-1-06; 8:45 am]

BILLING CODE 6717-01-P